DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (OFAC) is publishing the names of one individual and one entity whose property and interests in property have been blocked pursuant to the Foreign Narcotics Kingpin Designation Act (Kingpin Act) (21 U.S.C. 1901-1908, 8 U.S.C. 1182).

DATES: The designation by the Acting Director of OFAC of the individual and entity identified in this notice pursuant to section 805(b) of the Kingpin Act is effective on February 17, 2015.

FOR FURTHER INFORMATION CONTACT: Assistant Director, Sanctions Compliance & Evaluation, Office of Foreign Assets Control, U.S. Department of the Treasury, Washington, DC 20220. Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On February 17, 2015, the Acting Director of OFAC designated the following individual and entity whose property and interests in property are blocked pursuant to section 805(b) of the Kingpin Act.

Individual

GASTELUM SERRANO, Francisco Javier; DOB 02 Dec 1964; POB Culiacan, Sinaloa, Mexico; citizen Mexico; C.U.R.P. GASF641202HSLSRR09 (Mexico) (individual) [SDNTK].

Entity

ANDAMIOS DALMINE DE MEXICO, S.A., J.J. Rousseau #14, Colonia Anzures, Distrito Federal C.P. 11590, Mexico; Calzada Aeropuerto #7258, Colonia Bachigualato, Culiacan, Sinaloa, Mexico; Tuberosa #215, Colonia San Carlos, Guadalajara, Jalisco, Mexico; Avenida Guerrero #3298 Norte, Colonia Del Norte, Monterrey, Nuevo Leon, Mexico; Avenida 20 de Noviembre #12621, Colonia 20 de Noviembre, Tijuana, Baja California Norte, Mexico; Bugambilia #6313, Colonia Bugambilias, Puebla, Puebla, Mexico; Boulevard Luis Donaldo, Colosio Kilometer 10 Lote 44, Colonia Alfredo V. Bonfil, Cancun, Quintana Roo, Mexico; Calle 20 de Noviembre #8, Colonia Tezontepec, Cuernavaca, Morelos, Mexico; Avenida La Paz #3308, Colonia Santa Rosa, Los Cabos, Baja California Sur, Mexico; Carretera Internacional al Norte Kilometer 15, Bodega 309, El Venadillo, Mazatlan, Sinaloa, Mexico; Poniente 134 #769, Colonia Industrial Vallejo, Distrito Federal, Mexico; Constituyentes de 1975, #4770, Colonia Puesta del Sol, La Paz, Baja California Sur, Mexico; Roberto Barrios #2, Colonia Casa Blanca, Queretaro, Queretaro, Mexico; Cardenal #106, Colonia Los Sauces, Puerto Vallarta, Jalisco, Mexico; RFC ADM821230NBO (Mexico) [SDNTK].

Dated: February 17, 2015.
John E. Smith,
Acting Director, Office of Foreign Assets Control.

[FR Doc. 2015-04403 Filed 3-2-15; 8:45 am]

BILLING CODE 4810-AL-P